DEPARTMENT OF ENERGY

Federal Energy Regulatory Commission

Combined Notice of Filings #1

Take notice that the Commission received the following electric rate filings:

Docket Numbers: ER11-2547-008.

Applicants: New York Independent System Operator, Inc.

Description: NYISO compliance 15-minute variable scheduling at Linden VFT Proxy Generator Bus to be effective 11/28/2012.

Filed Date: 11/13/12.

Accession Number: 20121113-5413.

Comments Due: 5 p.m. ET 12/4/12.

Docket Numbers: ER12-2591-002.

Applicants: Monongahela Power Company.

Description: Compliance to Filing 21 to be effective 9/1/2012.

Filed Date: 11/14/12.

Accession Number: 20121114-5142.

Comments Due: 5 p.m. ET 12/5/12.

Docket Numbers: ER11-2932-002.

Applicants: NorthWestern Corporation.

Description: Revised Attachment K Compliance Filing—SD OATT to be effective 11/14/2012.

Filed Date: 11/14/12.

Accession Number: 20121114-5001.

Comments Due: 5 p.m. ET 12/5/12.

Docket Numbers: ER12-2506-001.

Applicants: Southern California Edison Company.

Description: Compliance Filing SGIA with TA-Acacia, LLC, TA-Acacia Project to be effective 8/24/2012.

Filed Date: 11/13/12.

Accession Number: 20121113-5292.

Comments Due: 5 p.m. ET 12/4/12.

Docket Numbers: ER13-113-001.

Applicants: Sunbury Energy, LLC.

Description: Amended Filing to be effective 11/12/2012.

Filed Date: 11/13/12.

Accession Number: 20121113-5328.

Comments Due: 5 p.m. ET 12/4/12.

Docket Numbers: ER13-327-001.

Applicants: Porter-Walker LLC.

Description: Amendment to FERC Electric Tariff, Volume No. 1 to be effective 11/13/2012.

Filed Date: 11/13/12.

Accession Number: 20121113-5254.

Comments Due: 5 p.m. ET 12/4/12.

Docket Numbers: ER13-377-000.

Applicants: PJM Interconnection, L.L.C.

Description: Original Service Agreement No. 3419; Queue No. X3-077 (WMPA) to be effective 10/24/2012.

Filed Date: 11/14/12.

Accession Number: 20121114-5145.

Comments Due: 5 p.m. ET 12/5/12.

Docket Numbers: ER13-378-000.

Applicants: Duquesne Light Company.

Description: Amendment to Connection and Site Agreement to be effective 1/13/2013.

Filed Date: 11/14/12.

Accession Number: 20121114-5147.

Comments Due: 5 p.m. ET 12/5/12.

Docket Numbers: ER13-379-000.

Applicants: PJM Interconnection, L.L.C.

Description: Cancellation of Rate Sch 41 Operating Protocols among PJM, NYISO, ConEd & PSE&G to be effective 5/1/2012.

Filed Date: 11/14/12.

Accession Number: 20121114-5149.

Comments Due: 5 p.m. ET 12/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2012.
Nathaniel J. Davis, Sr.,
Deputy Secretary.

[FR Doc. 2012-28404 Filed 11-21-12; 8:45 am]

BILLING CODE 6717-01-P